FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 27, 2000.

A. Federal Reserve Bank of Minneapolis (JoAnne F. Lewellen, Assistant Vice President) 90 Hennepin Avenue, Minneapolis, Minnesota 55480-0291:

1. Douglas Loren Jilek, Lester Prairie, Minnesota, to acquire additional voting shares of Prairie Bancshares, Inc., Lester Prairie, Minnesota, and thereby indirectly acquire additional voting shares of First Community Bank Lester Prairie, Lester Prairie, Minnesota, and First Community Bank Silver Lake, Silver Lake, Minnesota.

Board of Governors of the Federal Reserve System, November 6, 2000
Robert deV. Frierson,
Associate Secretary of the Board.

[FR Doc. 00-28825 Filed 11-8-00; 8:45 am]

BILLING CODE 6210-01-P